DEPARTMENT OF THE INTERIOR

National Park Service

[NPS-WASO-NAGPRA-12618; PPWOCRADN0-PCU00RP14.R50000]

Notice of Inventory Completion: San Francisco State University NAGPRA Program, San Francisco, CA

AGENCY: National Park Service, Interior.

ACTION: Notice.

SUMMARY: The San Francisco State University NAGPRA Program has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Francisco State University NAGPRA Program. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Francisco State University NAGPRA Program at the address in this notice by May 10, 2013.

ADDRESSES: Jeffrey Boland Fentress, San Francisco State University NAGPRA Program, c/o Department of Anthropology, San Francisco State University, 1600 Holloway Avenue, San Francisco, CA 94132, telephone (415) 338-3075.

SUPPLEMENTARY INFORMATION: Notice is here given in accordance with the Native American Graves Protection and Repatriation Act (NAGPRA), 25 U.S.C. 3003, of the completion of an inventory of human remains and associated funerary objects under the control of the San Francisco State University NAGPRA Program. The human remains and associated funerary objects were removed from site CA-TUO-328 in Tuolumne County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Francisco State University NAGPRA Program professional staff in consultation with representatives of the Tuolumne Band of Me-Wuk Indians of the Tuolumne Rancheria of California.

History and Description of the Remains

Between 1970 and 1971, human remains representing, at minimum, one individual were removed from site CA-TUO-328 in Tuolumne County, CA, by San Francisco State University personnel in conjunction with the construction of the New Don Pedro Reservoir. Site materials from the New Don Pedro Reservoir project were curated at San Francisco State University after excavation. No known individuals were identified. The 16 individual and 3 lots of associated funerary objects are 5 chert flakes and tools, 1 obsidian projectile point, 4 obsidian flakes, 1 basalt flake, 1 ground stone, 1 one bone tool, 2 square cut nails, 1 piece of haliotis shell, and 3 lots of unmodified faunal.

The age of site Ca-Tuo-328 is unknown, but the site is located within the historically documented territory of the Tuolumne Band of Me-Wuk Indians of the Tuolumne Rancheria of California. The objects are consistent with the material culture of the ancestral and contact period Sierra Miwok, who occupied this area from circa A.D. 500, at a minimum, and during the Euro-American contact period. Oral history evidence presented during consultation indicates that the area has been continuously occupied by the Miwok since the contact period and that there is cultural affiliation between the Tuolumne Band of Me-Wuk Indians of the Tuolumne Rancheria of California and the ancestral Sierra Miwok Indians.

Determinations Made by the San Francisco State University NAGPRA Program

Officials of the San Francisco State University NAGPRA Program have determined that:

• Pursuant to 25 U.S.C. 3001(9), the human remains described in this notice represent the physical remains of one individual of Native American ancestry.

• Pursuant to 25 U.S.C. 3001(3)(A), the 19 objects described in this notice are reasonably believed to have been placed with or near individual human remains at the time of death or later as part of the death rite or ceremony.

• Pursuant to 25 U.S.C. 3001(2), there is a relationship of shared group identity that can be reasonably traced between the Native American human remains and associated funerary objects and the Tuolumne Band of Me-Wuk Indians of the Tuolumne Rancheria of California.

Additional Requestors and Disposition

Lineal descendants or representatives of any Indian tribe or Native Hawaiian organization not identified in this notice that wish to request transfer of control of these human remains and associated funerary objects should submit a written request with information in support of the request to Jeffrey Boland Fentress, San Francisco State University NAGPRA Program, c/o Department of Anthropology, San Francisco State University, 1600 Holloway Avenue, San Francisco, CA 94132, telephone (415) 338-3075, by May 10, 2013. After that date, if no additional requestors have come forward, transfer of control of the human remains and associated funerary objects to the Tuolumne Band of Me-Wuk Indians of the Tuolumne Rancheria of California may proceed.

The San Francisco State University NAGPRA Program is responsible for notifying the Tuolumne Band of Me-Wuk Indians of the Tuolumne Rancheria of California that this notice has been published.

Dated: March 20, 2013.
Sherry Hutt,
Manager, National NAGPRA Program.

[FR Doc. 2013-08373 Filed 4-9-13; 8:45 am]

BILLING CODE 4312-50-P